DEPARTMENT OF LABOR

Employment and Training Administration

[TA-W-56,560]

Interstate Tool and Die Company Madison Heights, MI; Negative Determination Regarding Application for Reconsideration

By letter dated April 18, 2005, the company official requested administrative reconsideration of the Department's negative determination regarding eligibility for workers and former workers of the subject firm to apply for Trade Adjustment Assistance (TAA). The Department's determination was signed on March 23, 2005 and the Notice of determination was published in the Federal Register on May 2, 2005 (70 FR 22710).

The negative determination was based on the findings that during the investigatory period of 2003 through January 2005, the subject company neither imported prototype automotive parts nor shifted such production abroad, and the subject company's major declining customers did not import prototype automotive parts.

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The company official, in the request for reconsideration, infers that the scope of the initial investigation was in error because the term prototype parts is a misleading description of the work done by the firm. The company official now states that the firm supported the advance engineering groups of domestic automobile manufacturers.

During a February 14, 2005 telephone conversation, a company official stated that workers at the subject company are engaged in the prototype and production for the aerospace and automotive industries. Further, the Business Confidential Data Request form completed by another company official submitted, in part, on February 16, 2005, identified “prototype auto parts” as the product manufactured at the subject facility. Therefore, the Department determines that the scope of the investigation was not in error.

Conclusion

After review of the application and investigative findings, I conclude that there has been no error or misinterpretation of the law or of the facts which would justify reconsideration of the Department of Labor's prior decision. Accordingly, the application is denied.

Signed at Washington, DC, this 5th day of May 2005.
Linda G. Poole,
Certifying Officer, Division of Trade Adjustment Assistance.

[FR Doc. E5-2428 Filed 5-13-05; 8:45 am]

BILLING CODE 4510-30-P